ENVIRONMENTAL PROTECTION AGENCY

[ER-FRL-6662-2]

Environmental Impact Statements; Notice of Availability

Responsible Agency: Office of Federal Activities, General Information (202) 564-7167 or http://www.epa.gov/compliance/nepa/.

Weekly receipt of Environmental Impact Statements

Filed March 28, 2005, through April 1, 2005

Pursuant to 40 CFR 1506.9.

EIS No. 050139, Draft EIS, COE, AR, OK, Arkansas River Navigation Study, To Maintain and Improve the Navigation Channel in Order to Enhance Commercial Navigation on the McCellan Kerr Arkansas River Navigation System (MKARNS), Several Counties, AR and Several Counties, OK, Comment Period Ends: May 24, 2005, Contact: Renee Wright (501) 324-6139.

EIS No. 050140, Final EIS, FHW, NV, Boulder City/US 93 Corridor Transportation Improvements, Study Limits are between a western boundary on US 95 in the City of Henderson and an eastern boundary on US 93 west of downtown Boulder City, NPDES and US Army COE Section 404 Permits Issuance and Right-of Way Grant, Clark County, NV Wait Period Ends: May 9, 2005, Contact: Ted P. Bendure (775) 687-5322.

EIS No. 050141, Draft EIS, USA, FL, Eglin Air Force Base and Hurlburt Field Military Family Housing, Demolition, Construction, Renovation and Leasing (DCR&L) Program, Okaloosa County, FL, Comment Period Ends: May 23, 2005, Contact: Julia Cantrell (210) 536-3515.

EIS No. 050142, Draft EIS, NOA, CA, Programmatic—Montrose Settlements Restoration Program (MSRP) Draft Restoration Plan, To Restore Injured Natural Resources, Channel Islands, Southern California Bight including Baja California Pacific Islands, Orange County, CA, Comment Period Ends: May 23, 2005, Contact: William T. Hogarth (301) 713-1622.

EIS No. 050143, Draft EIS, FHW, LA, AR, I-69 Corridor—Section of Independent Utility (SIU) No. 14, Construction from Junction I-20 near Haughton, LA to US 82 near EI Dorado, AR, Bossier, Claiborne and Webster Parishes, LA and Columbia and Union Counties, AR, Comment Period Ends: May 30, 2005, Contact: William Farr (225) 757-7615.

EIS No. 050144, Draft EIS, FHW, IN, US-31 Kokomo Corridor Project, Transportation Improvement between IN-26 and US 35 Northern Junction, City of Kokomo and Center Township, Howard and Tipton Counties, IN, Comment Period Ends: May 23, 2005, Contact: Matt Fuller (317) 226-5234. This document is available on the Internet at: http://www.us31kokomo.com.

Amended Notices

EIS No. 050105, Draft EIS, AFS, MI, Huron-Manistee National Forests, Proposed Land and Resource Management Plan, Implementation, Several Counties, MI, Comment Period Ends: June 16, 2005, Contact: Jeff Pullen (231) 775-2421. Revision of Federal Register notice published on March 18, 2005: Correction to the State from WI to MI.

EIS No. 050136, Draft EIS, AFS, CO, Dry Fork Federal Coal Lease-by-Application (COC-67232), Leasing Additional Federal Coal Lands for Underground Coal Resource, Special-Use-Permits and US Army COE Section 404 Permit, Grand Mesa, Uncompahgre and Gunnison National Forests, Gunnison County, CO, Comment Period Ends: May 16, 2005, Contact: Liane Mattson (970) 874-6697. Revision of Federal Register notice published on April 1, 2005: Correction to Telephone Number.

Dated: April 5, 2005.
Ken Mittelholtz,
Environmental Protection Specialist, Office of Federal Activities.

[FR Doc. 05-7041 Filed 4-7-05; 8:45 am]

BILLING CODE 6560-50-P